DEPARTMENT OF ENERGY

Federal Energy Regulatory Commission

Combined Notice of Filings #1

Take notice that the Commission received the following exempt wholesale generator filings:

Docket Numbers: EG25-242-000.

Applicants: Guajillo Energy Storage LLC.

Description: Guajillo Energy Storage LLC submits Notice of Self-Certification of Exempt Wholesale Generator Status.

Filed Date: 3/21/25.

Accession Number: 20250321-5041.

Comment Date: 5 p.m. ET 4/11/25.

Docket Numbers: EG25-243-000.

Applicants: Padua Grid 2, LLC.

Description: Padua Grid 2, LLC submits Notice of Self-Certification of Exempt Wholesale Generator Status.

Filed Date: 3/21/25.

Accession Number: 20250321-5097.

Comment Date: 5 p.m. ET 4/11/25.

Docket Numbers: EG25-244-000.

Applicants: Padua Grid 3, LLC.

Description: Padua Grid 3, LLC submits Notice of Self-Certification of Exempt Wholesale Generator Status.

Filed Date: 3/21/25.

Accession Number: 20250321-5098.

Comment Date: 5 p.m. ET 4/11/25.

Docket Numbers: EG25-245-000.

Applicants: Valley Farms Energy Center, LLC.

Description: Valley Farms Energy Center, LLC submits Notice of Self-Certification of Exempt Wholesale Generator Status.

Filed Date: 3/21/25.

Accession Number: 20250321-5116.

Comment Date: 5 p.m. ET 4/11/25.

Docket Numbers: EG25-246-000.

Applicants: Wildcat Ranch Energy Storage, LLC.

Description: Wildcat Ranch Energy Storage, LLC submits Notice of Self-Certification of Exempt Wholesale Generator Status.

Filed Date: 3/21/25.

Accession Number: 20250321-5119.

Comment Date: 5 p.m. ET 4/11/25.

Take notice that the Commission received the following Complaints and Compliance filings in EL Dockets:

Docket Numbers: EL25-70-000.

Applicants: Portland General Electric Company.

Description: Petition for Declaratory Order of Portland General Electric Company.

Filed Date: 3/19/25.

Accession Number: 20250319-5214.

Comment Date: 5 p.m. ET 4/18/25.

Take notice that the Commission received the following electric rate filings:

Docket Numbers: ER14-1193-007.

Applicants: West Deptford Energy, LLC.

Description: Compliance filing: Informational Filing Regarding Transfer of Ownership to be effective N/A.

Filed Date: 3/20/25.

Accession Number: 20250320-5208.

Comment Date: 5 p.m. ET 4/10/25.

Docket Numbers: ER19-13-012.

Applicants: Pacific Gas and Electric Company.

Description: Compliance filing: TO: TO20 Docket No. ER19-13 Settlement 2025 to be effective N/A.

Filed Date: 3/21/25.

Accession Number: 20250321-5171.

Comment Date: 5 p.m. ET 4/11/25.

Docket Numbers: ER24-1763-003.

Applicants: FRP Tupelo Solar, LLC.

Description: Compliance filing: Compliance Filing (ER24-1763-) to be effective 8/15/2024.

Filed Date: 3/21/25.

Accession Number: 20250321-5160.

Comment Date: 5 p.m. ET 4/11/25.

Docket Numbers: ER24-2787-000.

Applicants: Agway Energy Services, LLC.

Description: Refund Report: Refund Report to be effective N/A.

Filed Date: 3/20/25.

Accession Number: 20250320-5146.

Comment Date: 5 p.m. ET 4/10/25.

Docket Numbers: ER25-1535-001.

Applicants: NorthWestern Energy Public Service Corporation.

Description: Tariff Amendment: Amendment to RS37 3rd Rev—ESA with East River to be effective 5/7/2025.

Filed Date: 3/21/25.

Accession Number: 20250321-5167.

Comment Date: 5 p.m. ET 4/11/25.

Docket Numbers: ER25-1716-000.

Applicants: Tampa Electric Company.

Description: Compliance filing: Compliance Filing—FERC Order No. 904 to be effective 6/18/2025.

Filed Date: 3/20/25.

Accession Number: 20250320-5128.

Comment Date: 5 p.m. ET 4/10/25.

Docket Numbers: ER25-1717-000.

Applicants: PJM Interconnection, L.L.C.

Description: § 205(d) Rate Filing: Original GIA, Service Agreement No. 7589; AF2-004/AG1-500 to be effective 2/18/2025.

Filed Date: 3/20/25.

Accession Number: 20250320-5141.

Comment Date: 5 p.m. ET 4/10/25.

Docket Numbers: ER25-1718-000.

Applicants: PJM Interconnection, L.L.C.

Description: § 205(d) Rate Filing: Original GIA, Service Agreement No. 7598; AF2-291 to be effective 2/18/2025.

Filed Date: 3/20/25.

Accession Number: 20250320-5171.

Comment Date: 5 p.m. ET 4/10/25.

Docket Numbers: ER25-1719-000.

Applicants: PJM Interconnection, L.L.C.

Description: § 205(d) Rate Filing: Original CSA, Service Agreement No. 7599; AF2-291 to be effective 2/18/2025.

Filed Date: 3/20/25.

Accession Number: 20250320-5184.

Comment Date: 5 p.m. ET 4/10/25.

Docket Numbers: ER25-1720-000.

Applicants: Alpha Generation, LLC.

Description: Initial Rate Filing: Market-Based Rate Application to be effective 5/20/2025.

Filed Date: 3/20/25.

Accession Number: 20250320-5185.

Comment Date: 5 p.m. ET 4/10/25.

Docket Numbers: ER25-1721-000.

Applicants: Pacific Gas and Electric Company.

Description: Compliance filing: TO: TO21 Rate Year 2024 Annual Update Docket No. ER24-529 Settlement to be effective N/A.

Filed Date: 3/21/25.

Accession Number: 20250321-5000.

Comment Date: 5 p.m. ET 4/11/25.

Docket Numbers: ER25-1722-000.

Applicants: West Deptford Energy, LLC.

Description: West Deptford Energy, LLC requests a one-time, limited waiver of the 90-day prior notice requirement set forth in Schedule 2 to the PJM Interconnection, L.L.C. Open Access Transmission Tariff.

Filed Date: 3/20/25.

Accession Number: 20250320-5239.

Comment Date: 5 p.m. ET 4/10/25.

Docket Numbers: ER25-1725-000.

Applicants: Southwest Power Pool, Inc.

Description: § 205(d) Rate Filing: 4220R1 SWEPCO GIA to be effective 3/11/2025.

Filed Date: 3/21/25.

Accession Number: 20250321-5002.

Comment Date: 5 p.m. ET 4/11/25.

Docket Numbers: ER25-1726-000.

Applicants: Southwest Power Pool, Inc.

Description: § 205(d) Rate Filing: 3785R1 Tip Top Solar, SPS & OG&E Shared Network Upgrade FCA to be effective 5/21/2025.

Filed Date: 3/21/25.

Accession Number: 20250321-5015.

Comment Date: 5 p.m. ET 4/11/25.

Docket Numbers: ER25-1727-000.

Applicants: PJM Interconnection, L.L.C.

Description: § 205(d) Rate Filing: Correction to eTariff Metadata for SA No. 7206 Filed in Docket No. ER25-731 to be effective 2/16/2025.

Filed Date: 3/21/25.

Accession Number: 20250321-5114.

Comment Date: 5 p.m. ET 4/11/25.

Docket Numbers: ER25-1729-000.

Applicants: Midcontinent Independent System Operator, Inc.

Description: § 205(d) Rate Filing: 2025-03-21_Demand Response Participation Rules Enhancements to be effective 7/19/2025.

Filed Date: 3/21/25.

Accession Number: 20250321-5146.

Comment Date: 5 p.m. ET 4/11/25.

Docket Numbers: ER25-1730-000.

Applicants: Alabama Power Company, Georgia Power Company, Mississippi Power Company.

Description: § 205(d) Rate Filing: Alabama Power Company submits tariff filing per 35.13(a)(2)(iii: Peach Energy Storage LGIA Filing to be effective 3/10/2025.

Filed Date: 3/21/25.

Accession Number: 20250321-5153.

Comment Date: 5 p.m. ET 4/11/25.

Docket Numbers: ER25-1731-000.

Applicants: Alabama Power Company, Georgia Power Company, Mississippi Power Company.

Description: § 205(d) Rate Filing: Alabama Power Company submits tariff filing per 35.13(a)(2)(iii: RWE Solar Development (Muletown Solar) LGIA Filing to be effective 3/10/2025.

Filed Date: 3/21/25.

Accession Number: 20250321-5154.

Comment Date: 5 p.m. ET 4/11/25.

Docket Numbers: ER25-1732-000.

Applicants: Alabama Power Company, Georgia Power Company, Mississippi Power Company.

Description: § 205(d) Rate Filing: Alabama Power Company submits tariff filing per 35.13(a)(2)(iii: Shubuta Creek Solar Amended and Restated LGIA Filing to be effective 3/10/2025.

Filed Date: 3/21/25.

Accession Number: 20250321-5157.

Comment Date: 5 p.m. ET 4/11/25.

Docket Numbers: ER25-1733-000.

Applicants: Tri-State Generation and Transmission Association, Inc.

Description: § 205(d) Rate Filing: Demand Response Rider Filing to be effective 5/20/2025.

Filed Date: 3/21/25.

Accession Number: 20250321-5170.

Comment Date: 5 p.m. ET 4/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 21, 2025.
Carlos D. Clay,
Deputy Secretary.

[FR Doc. 2025-05308 Filed 3-27-25; 8:45 am]

BILLING CODE 6717-01-P